DEPARTMENT OF COMMERCE

National Oceanic and Atmospheric Administration

RIN 0648-XD596

Endangered and Threatened Species; Take of Anadromous Fish

AGENCY: National Marine Fisheries Service (NMFS), National Oceanic and Atmospheric Administration (NOAA), Commerce.

ACTION: Issuance of a Scientific Purposes and Enhancement of Survival Permit for a Hatchery and Genetic Management Plan (HGMP).

SUMMARY: This notice announces the availability of the Final Environmental Assessment (EA) on the application from the California Department of Fish and Wildlife (CDFW), Region 1 for a Scientific Purposes and Enhancement of Survival Permit for a Hatchery and Genetic Management Plan (HGMP) for take of a threatened species in accordance with the Endangered Species Act (ESA). This notice also announces that NMFS has made a decision to issue a permit (Permit No. 15755) to CDFW for activities described in their HGMP, and has authorized the Hatchery and Genetic Management Plan (HGMP) for the Iron Gate Hatchery coho salmon program in the Klamath River watershed in California.

This notice is provided under National Environmental Policy Act (NEPA) regulations and NMFS ESA permit regulations to inform the public that the Final EA, HGMP, responses to public comments, and associated documents are available for review.

ADDRESSES: The application, permit, final HGMP, Final EA, and related documents are available for review by appointment at: California Coastal Area Office, NMFS, 1655 Heindon Road, Arcata, CA 95521 (ph: 707-825-5171, fax: 707-825-4840, email at: jim.simondet@noaa.gov.

FOR FURTHER INFORMATION CONTACT: Jim Simondet at 707-825-5171, or email: jim.simondet@noaa.gov.

SUPPLEMENTARY INFORMATION:

Authority

The issuance of Scientific Purposes and Enhancement of Survival Permit permits by NMFS, as required by the Endangered Species Act of 1973 (16 U.S.C. 1531-1543) (ESA), is based on a finding that such permits: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch).

Background

On January 8, 2013 NMFS announced in the Federal Register a notice of receipt of a Scientific Purposes and Enhancement of Survival Permit application and draft Hatchery and Genetic Management Plan (HGMP) from the California Department of Fish and Game, now Wildlife (CDFW), for a 10 year period (78 FR 1201). On January 30, 2013 NMFS published a corrected Federal Register notice with clarifications regarding the comment period (78 FR 6298) which ended March 1, 2013. The draft HGMP specified methods of operation for the Iron Gate hatchery coho salmon program located along the Klamath River, within the State of California. NMFS also announced the availability of a Draft Environmental Assessment (EA) regarding issuance of a permit authorizing take of coho salmon associated with implementation of the HGMP. Public review and comment were invited on both the draft HGMP and the draft EA. The public review and comment period ended on March 1, 2013. NMFS did not receive any comment letters on the Draft HGMP or the Draft EA during the public review period.

The HGMP will be implemented as part of the existing coho salmon artificial propagation program at Iron Gate Hatchery. Actions taken pursuant to the permit are designed to enhance the survival of coho salmon residing in the Upper Klamath River below Iron Gate Dam. The HGMP incorporates two main components: Artificial propagation and monitoring and evaluation (M&E). Artificial propagation activities that could lead to the take of listed coho salmon include: Adult broodstock collection, spawning, rearing, handling, evaluation, tagging and release of progeny. Once the threat of demographic extinction is reduced, the number of hatchery adult coho salmon allowed to spawn naturally in Bogus Creek may be controlled to insure that the proportionate natural influence (PNI) for spawning coho salmon exceeds 0.5 (PNI > 0.5). The purpose for controlling the PNI is to have natural environment rather than the hatchery environment drive local adaptation and selection processes to improve genetic fitness. The HGMP includes measures to increase the fertilization of eggs and survival rate for each life stage and to minimize the likelihood of genetic or ecological effects to listed natural fish resulting from the hatchery operations and propagation of hatchery fish. Monitoring and evaluation will occur by conducting coho spawning ground and carcass surveys in the mainstem Klamath River and key tributary streams that comprise habitat for the Upper Klamath River coho salmon population unit. These data will be used to estimate adult natural and hatchery escapement levels and spawn timing in key streams for the Upper Klamath population unit as a whole. M&E activities will also collect necessary data to document achievement of performance indicators specified in the HGMP.

Take of adult and juvenile coho salmon associated with Permit 15755 is described in the NMFS permit and particularly detailed in Table 1 of the permit. Permit 15755 expires on August 31, 2024.

Dated: November 17, 2014.
Angela Somma,
Chief, Endangered Species Division, Office of Protected Resources, National Marine Fisheries Service.

[FR Doc. 2014-27543 Filed 11-20-14; 8:45 am]

BILLING CODE 3510-22-P